FEDERAL COMMUNICATIONS COMMISSION

47 CFR Part 73

[DA 02-300; MM Docket No. 01-18; RM-10026; RM-10098]

Radio Broadcasting Services; Arriba, Bennett, Brush and Pueblo, CO; Pine Bluffs, WY

AGENCY: Federal Communications Commission.

ACTION: Final rule.

SUMMARY: In response to a proposal filed by Alan Olson, this document allots Channel 240A to Arriba, Colorado, for previously proposed Channel 297A. See 66 FR 9683, February 9, 2001. Additionally, in response to a counterproposal filed jointly on behalf of KKDD-FM Broadcasters, Inc. LLC, licensee of Station KSIR-FM, Brush, Colorado, and Metropolitan Radio Group, Inc, licensee of Station KNKN, Pueblo, Colorado (“counterproponents”), this document substitutes Channel 296C for Channel 296C1 at Brush, reallots Channel 296C to Bennett, Colorado, as that community's first local aural service, and modifies the license for Station KSIR-FM, as requested. In order to accommodate the Bennett allotment, this documents also substitutes Channel 295C2 for Channel 296C2 at Pueblo, Colorado, at a new transmitter site, and modifies the license for Station KNKN, as requested. Additionally, Channel 238C3 is allotted to Pine Bluffs, Wyoming, as requested by the counterproponents. Coordinates used for Channel 240A at Arriba, Colorado, are 39-17-12 NL and 103-16-30 WL; coordinates used for Channel 296C at Bennett, Colorado, are 39-54-34 NL and 103-57-58 WL; coordinates used for Channel 295C2 at Pueblo, Colorado, are 38-06-32 NL and 104-29-18 WL; coordinates used for Channel 238C3 at Pine Bluffs, Wyoming, are 41-00-23 NL and 104-00-34 WL.

DATES: Effective March 25, 2000. A filing window for Channel 240A at Arriba, Colorado, and for Channel 238C3 at Pine Bluffs, Wyoming, will not be opened at this time. Instead, the issue of opening those allotments for auction will be addressed by the Commission in a subsequent Order.

FOR FURTHER INFORMATION CONTACT: Nancy Joyner, Mass Media Bureau, (202) 418-2180.

SUPPLEMENTARY INFORMATION: This is a synopsis of the Commission's Report and Order, MM Docket No. 01-18, adopted January 30, 2002, and released February 8, 2002. The full text of this Commission decision is available for inspection and copying during normal business hours in the FCC's Reference Information Center (Room CY-A257), 445 12th Street, SW., Washington, DC. The complete text of this decision may also be purchased from the Commission's copy contractor, Qualtex International, Portals II, 445 12th Street, SW., Room CY-B402, Washington, DC 20554, telephone (202) 863-2893.

List of Subjects in 47 CFR Part 73

Radio broadcasting.

Part 73 of title 47 of the Code of Federal Regulations is amended as follows:

PART 73—RADIO BROADCAST SERVICES

1. The authority citation for part 73 continues to read as follows:

Authority: 47 U.S.C. 154, 303, 334, 336.

§ 73.202 [Amended]

2. Section 73.202(b), the Table of FM Allotments under Colorado, is amended by adding Arriba, Channel 240A; by adding Bennett, Channel 296C; by removing Channel 296C1 at Brush;¹ by removing Channel 296C2 at Pueblo and adding Channel 295C2.

¹ 47 CFR Parts 70 to 79, revised October 1, 2000, at Section 73.202(b) under Colorado, reflects the allotment of Channel 296A at Brush, Colorado. However, that allotment was modified in the context of MM Docket No. 88-605, adopted September 11, 1989, to specify Channel 296C1.

3. Section 73.202(b), the Table of FM Allotments under Wyoming, is amended by adding Channel 238C3 at Pine Bluffs.

Federal Communications Commission.
John A. Karousos,
Chief, Allocations Branch, Policy and Rules Division, Mass Media Bureau.

[FR Doc. 02-4217 Filed 2-21-02; 8:45 am]

BILLING CODE 6712-01-P